DEPARTMENT OF AGRICULTURE

Submission for OMB Review; Comment Request

December 19, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 28, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business Cooperative Service

Title: Strategic Economic and Community Development.

OMB Control Number: 0570-0068.

Summary of Collection: As authorized under the Agricultural Act of 2014 (2014 Farm Bill), Section 6025, Strategic Economic and Community Development enables the Secretary of Agriculture to provide priority to projects that support Strategic Economic and Community Development plans. The Agency will reserve up to 10 percent of the funds appropriated to the following seven Rural Development programs (which are referred to as the “underlying programs”): Community Facility Grants; Community Facility Guaranteed Loans; Community Facility Direct Loans; Water and Waste Disposal Loans and Grants; Water and Waste Disposal Guaranteed Loans; Business and Industry Guaranteed Loans and Rural Business Development Grants each fiscal year.

Need and Use of the Information: To be eligible for the reserved funds a project must meet three criteria: Projects must first be eligible for funding under the underlying program from which funds are reserved; carried out solely in rural areas and that the project support the implementation of a strategic economic development or community development plan on a multi-jurisdictional basis as defined in 7 CFR 1980.1005. Applicants will submit information on the Application Form 1980-88, the Plan that the project supports, and the project's measures, metrics and outcome. The collection of information is necessary for the Agency to identify projects eligible for the reserved funding under the Section 6025 program and to prioritize eligible applications.

Description of Respondents: Business or other for-profit.

Number of Respondents: 339.

Frequency of Responses: Reporting: On occasion.

Total Burden Hours: 3,040.

Kimble Brown,
Departmental Information Collection Clearance Officer.

[FR Doc. 2018-27973 Filed 12-26-18; 8:45 am]

BILLING CODE 3410-XY-P